DEPARTMENT OF STATE

[Public Notice 6827]

Shipping Coordinating Committee; Notice of Committee Meeting

The Shipping Coordinating Committee (SHC) will conduct two separate open meetings to prepare for upcoming events at the International Maritime Organization (IMO) in London, United Kingdom. The first of these open meetings will be held at 09:30 a.m. on Wednesday, August 17, 2011, in Room 1303 of the United States Coast Guard Headquarters Building, 2100 Second Street, SW., Washington, DC 20593-7126. The primary purpose of the meeting is to prepare for the thirty-seventh Session of the International Maritime Organization's (IMO) Facilitation Committee (FAL 37) to be held at the IMO Headquarters, London, United Kingdom on September 5-9, 2011.

The primary matters to be considered at FAL 37 include:

—Adoption of the agenda.

—Decisions of other IMO Bodies.

—Consideration and adoption of proposed amendments to the Convention.

—General review of the Convention.

—E-business possibilities for the facilitation of maritime traffic.

—Formalities connected with the arrival, stay and departure of persons.

—Certificates and documents required to be carried on board ships and FAL Forms.

—Ensuring security in and facilitating international trade.

—Ship/port interface.

—Technical co-operation and assistance.

—Relations with other organizations.

—Application of the Committee's Guidelines.

—Role, mission, strategic direction and work of the Committee.

—Work Programme.

—Election of Chairman and Vice-Chairman for 2012.

—Any other business.

—Consideration of the report of the Committee on its thirty-seventh session.

The second open meeting will be held at 10 a.m. on Tuesday, September 6, 2011, in Room 1303 of the United States Coast Guard Headquarters Building, 2100 Second Street, SW., Washington, DC 20593-7126. The primary purpose of this meeting is to prepare for the sixteenth Session of the International Maritime Organization's (IMO) Sub-Committee on Dangerous Goods, Solid Cargoes and Containers (DSC 16) to be held at IMO Headquarters, London, United Kingdom on September 19-23, 2011.

The primary matters to be considered at DSC 16 include:

—Adoption of the agenda.

—Decision of other IMO Bodies.

—Amendments to the International Maritime Dangerous Goods (IMDG) Code and Supplements including harmonization of the IMDG Code with the United Nations Recommendations on the Transport of Dangerous Goods.

—Amendments to the International Maritime Solid Bulk Cargoes Code (IMSBC Code) including evaluation of properties of solid bulk cargos.

—Casualty and incident reports and analysis.

—Stowage of water-reactive materials.

—Revised Guidelines for packing of cargo transport units.

—Consideration for the efficacy of Container Inspection Programme.

—Installation of equipment for detection of radioactive contaminated objects in port.

—Amendments to the International Convention for Safe Containers, 1972 and associated circulars.

—Amendment to SOLAS to mandate enclosed space entry and rescue drills.

—Biennial agenda and provisional agenda for DSC 17.

—Election of Chairman and Vice-Chairman for 2012.

—Any other business.

—Report to the Maritime Safety Committee.

Members of the public may attend the two meetings up to the seating capacity of the rooms. To facilitate the building security process, and to request reasonable accommodation, those who plan to attend one or all of the four meetings should contact the following coordinators at least 7 days prior to the meetings:

—For the FAL 37 meeting on August 17, 2011, contact Mr. David Du Pont, by e-mail at David.A.DuPont@uscg.mil, by phone at (202) 372-1497, by fax at (202) 372-1928, or in writing at Commandant (CG-52), U.S. Coast Guard, 2100 2nd Street, SW., Stop 7126, Washington, DC 20593-7126 not later than August 10, 2011, 7 days prior to the meeting. Requests for reasonable accommodation made after August 10, 2011 might not be able to be accommodated.

—For the DSC 16 meeting on September 6, 2011, contact LT Elizabeth Newton, by e-mail at Elizabeth.J.Newton@uscg.mil, by phone at (202) 372-1419, by fax at (202) 372-1426, or in writing at Commandant (CG-52), U.S. Coast Guard, 2100 2nd Street, SW., Stop 7126, Washington, DC 20593-7126 not later than August 30, 2011, 7 days prior to the meeting. Requests for reasonable accommodation made after August 30 might not be able to be accommodated.

Please note that due to security considerations at Coast Guard Headquarters in Washington, DC, two valid, government issued photo identifications must be presented to gain entrance to the CG Headquarters building. The CG Headquarters building is accessible by taxi and privately owned conveyance (public transportation is not generally available). However, parking in the vicinity of the building is extremely limited.

Additional information regarding this and other IMO SHC public meetings may be found at: http://www.uscg.mil/imo.

Dated: July 18, 2011.
Greg O'Brien,
Senior Oceans Policy Advisor, Shipping Coordinating Committee, Department of State.

[FR Doc. 2011-18977 Filed 7-26-11; 8:45 am]

BILLING CODE 4710-09-P